DEPARTMENT OF ENERGY

Federal Energy Regulatory Commission

[Docket No. CP04-13-000]

Saltville Gas Storage Company L.L.C.; Notice of Intent To Prepare an Environmental Assessment for the Proposed Saltville Storage Project and Request for Comments on Environmental Issues

December 16, 2003.

The staff of the Federal Energy Regulatory Commission (FERC or Commission) will prepare an environmental assessment (EA) that will discuss the environmental impacts of the Saltville Storage Project involving the construction of a limited number of new facilities and operation of existing facilities by Saltville Gas Storage Company L.L.C. (Saltville) in Smyth and Washington Counties, Virginia.¹ Saltville is currently developing a new 8.2 billion cubic feet (Bcf), underground natural gas storage facility using depleted salt caverns that was previously authorized for construction and operation by the Virginia State Corporation Commission. Saltville has received all necessary state regulatory approvals to construct and operate its storage facility. See Appendix 1 for a list of the facilities and their construction status. The EA will focus its analysis on the facilities that still need to be constructed, and on restoration of the areas previously disturbed or currently being disturbed by on-going construction activities. This EA will be used by the Commission in its decision-making process to determine whether the project is in the public convenience and necessity.

¹ Saltville's application was filed with the Commission under section 7(c) of the Natural Gas Act and part 157 of the Commission's regulations. The Commission determined that the project should be subject to Federal regulation. Therefore, Saltville has filed for approval to complete construction of the project and to operate it pursuant to Federal regulatory requirements.

The Saltville Storage Project is located entirely on land that is either already owned by Saltville or over which it already holds all necessary rights-of-way. Saltville does not require additional property rights from landowners in the vicinity of the project. The 6.7-mile-long, 24-inch-diameter natural gas pipeline has already been constructed and is in service. All of the facilities that remain to be constructed by Saltville would be located within its 650-acre property. Saltville commenced limited customer service on August 1, 2003.

Summary of the Project

Saltville wants to develop and operate up to four salt storage caverns with a total capacity of 8.2 Bcf. Caverns 1 and 2 have been completed and are in service. Well conversion work remains to be completed on well 23 in Cavern 3 and this conversion work is in progress. Saltville has also substantially completed all of the pipelines and other facilities necessary to operate this storage field with the exception of the following facilities that will be examined in the EA:

• Construction of a second 5,250 horsepower electric-motor driven reciprocating compressor and associated dehydrators and heaters at the existing compressor station;

• Development of Cavern 4 (recomplete Well 24) that would have a capacity of about 0.2 Bcf and associated gas and brine piping (about 500 and 200 feet, respectively) and controls;

• Installation of Cavern 3's de minimus associated gas and brine piping connections between the already installed gas and brine mainlines that are currently in-place adjacent to Wells 18, 19, 21, 22, and 23 and controls; and

• A new office building.

All of these facilities are within Saltville's property. No nonjurisdictional facilities are needed. The EA would also address any facility removal activities.

The location of the project facilities is shown in appendix 2.²

² The appendices referenced in this notice are not being printed in the Federal Register. Copies of all appendices, other than appendix 1 (maps), are available on the Commission's website at the “eLibrary” link or from the Commission's Public Reference and Files Maintenance Branch, 888 First Street, NE., Washington, DC 20426, or call (202) 502-8371. For instructions on connecting to “eLibrary” refer to the last page of this notice. Copies of the appendices were sent to all those receiving this notice in the mail.

Land Requirements for the Project

No new land is required. All of the facilities that remain to be constructed would be located in previously disturbed areas that are within Saltville's 650-acre property. These areas are mostly covered with gravel or broken native rock at this time.

The EA Process

The National Environmental Policy Act (NEPA) requires the Commission to take into account the environmental impacts that could result from its action whenever it considers the issuance of a Certificate of Public Convenience and Necessity. NEPA also requires us ³ to discover and address concerns the public may have about proposals. This process is referred to as “scoping”. The main goal of the scoping process is to focus the analysis in the EA on the important environmental issues. By this notice of intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• Geology and soils

• Land use

• Water resources, fisheries, and wetlands

• Cultural resources

• Vegetation and wildlife

• Air quality and noise

• Public safety

• Endangered and threatened species

We will also evaluate possible alternatives to the proposed project, and make recommendations on how to lessen or avoid impacts on the various resource areas.

Our independent analysis of the issues will be in the EA. Depending on the comments received during the scoping process, the EA may be published and mailed to Federal, state, and local agencies, public interest groups, interested individuals, affected landowners, newspapers, libraries, and the Commission(s official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Saltville and stakeholders. This preliminary list of issues may be changed based on your comments and our analysis.

• Noise from compressor station operations.

• Public safety.

• Saltville fault.

Public Participation

You can make a difference by providing us with your specific comments or concerns about the project. By becoming a commentor, your concerns will be addressed in the EA and considered by the Commission. You should focus on the potential environmental effects of the proposal, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP04-13-000.

• Mail your comments so that they will be received in Washington, DC on or before January 14, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

We may mail the EA for comment. If you are interested in receiving it, please return the Information Request (appendix 4). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission(s rules of practice and procedure (18 CFR 385.214) (see Appendix 3).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project.

Additional Information

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance with “eLibrary”, the eLibrary helpline can be reached at 1-866-208-3676, TTY (202) 502-8659, or at ferconlinesupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Finally, public meetings or site visits will be posted on the Commission's calendar located at http://www.ferc.gov/EventCalendar/EventsList.aspx along with other related information.

Magalie R. Salas,
Secretary.

[FR Doc. E3-00630 Filed 12-23-03; 8:45 am]

BILLING CODE 6717-01-P